FEDERAL COMMUNICATIONS COMMISSION

47 CFR Ch. I

[IB Docket No. 02-18, FCC 03-63]

Enforcement of Other Nations' Prohibitions Against the Uncompleted Call Signaling Configuration of International Call-back Service

AGENCY: Federal Communications Commission.

ACTION: Policy Statement.

SUMMARY: This document is a summary of the Commission's decision to eliminate the comity-based prohibitions on call-back and the policy that allowed a foreign government or entity to make use of the enforcement mechanisms of the FCC to enforce foreign government prohibitions against U.S. carriers from offering call0singaling abroad. The FCC determined that the policy is no longer necessary in today's pro-competitive environment.

DATES: Effective March 24, 2003.

FOR FURTHER INFORMATION CONTACT: David Krech, International Bureau, (202) 418-1460.

SUPPLEMENTARY INFORMATION: This is a summary of the Commission's Order (Order), FCC 03-63, adopted on March 24, 2003, and released on March 28, 2003. The full text of this document is available for inspection and copying during normal business hours in the Consumer and Government Affairs Bureau's Reference Information Center, (Room CY-A257) of the Federal Communications Commission, 445 12th Street, SW., Washington, DC 20554. The document is also available for download over the Internet at http://hraunfoss.fcc.gov/edocs_public/attachmatch/FCC-03-63A1.pdf. The complete text of this document also may be purchased from the Commission's copy contractor, Qualex, Portals II, 445 12th St., SW., Room CY-B402, Washington, DC 20054, telephone (202) 863-2893.

Summary of Order

1. On January 30, 2002, the Commission released a Notice of Proposed Rulemaking (67 FR 10656, March 9, 2002) to review the Commission's international call-back enforcement policy. International call-back arrangements allow foreign callers to take advantage of low U.S. international services rates, many of which are significantly lower than the rates available in their home countries. Specifically, the Commission's international call-back policy extends to the uncompleted call signaling configuration of call-back. Uncompleted call signaling involves a foreign caller who dials the call-back provider's switch in the United States, waits a predetermined number of rings, and hangs up before the switch answers. The switch then automatically returns the call, and upon completion, provides the caller in the foreign country with a U.S. dialtone.

2. In a 1994 order, the Commission authorized U.S. carriers to provide call-back service. The Commission concluded that the provision of call-back does not violate U.S. law or international law or regulations. In 1995, the Commission reconsidered its decision in light of international comity. The Commission adopted a policy prohibiting U.S. carriers from offering international call-back using the completed call signaling configuration to countries where it has been expressly prohibited. Foreign governments were invited to notify the Commission of the legality of call-back within their territory, and the Commission maintains a public file containing the submitted material from foreign governments.

3. Since adopting its call-back policy in 1995, the Commission has taken significant steps to open the U.S. international market to competition and to enhance consumer benefits on U.S. international routes. In this Order, the Commission concluded that the policy is no longer necessary in today's pro-competitive environment. Thus, the Commission decided to eliminate its comity-based call-back policy and discontinue the policy that allows a foreign government or entity to make use of the enforcement mechanisms of the Commission to prohibit the U.S. carriers from offering one form of call-back abroad.

4. The Commission continues to maintain that its policy allowing the uncompleted call signaling configuration of call-back is consistent with international law.

5. Further, the Commission finds that this change to its policy on call-back services is also consistent with the ITU Plenipotentiary 2002 Resolution 21 and the 1994 Kyoto Declaration.

6. The Commission will continue to maintain a public file to inform call-back providers about the legality of call-back in foreign nations. Also, the FCC will continue to maintain its policies prohibiting call-back configurations that degrade the network or constitute fraudulent activity.

Final Regulatory Flexibility Certification

The Regulatory Flexibility Act (RFA), 5 U.S.C. 6013612, as amended by the Small Business Regulatory Enforcement Fairness Act of 1996, Public Law 104-121, Title II, 110 Stat. 957, requires a final regulatory flexibility analysis in notice-and-comment proceedings, unless the agency certifies that “the rule will not, if promulgated, have a significant economic impact on a substantial number of small entities.” The policy change adopted in this Order does not impose any additional compliance burden on small entities dealing with the Commission. The RFA generally defines the term “small entity” as having the same meaning as the terms “small business,” “small organization,” and “small governmental jurisdiction.” In addition, the term “small business” has the same meaning as the term “small business concern” under the Small Business Act. Accordingly, we certify, pursuant to Section 605(b) of the RFA, that the policy change adopted in this Order does not have a significant economic impact on a substantial number of small business entities, as defined by the RFA. The Commission's Consumer and Government Affairs Bureau, Reference Information Center, shall send a copy of this Order, including the Final Regulatory Flexibility Certification, to the Chief Counsel for Advocacy of the Small Business Administration in accordance with section 605(b) of the RFA. This final certification will also be published in the Federal Register.

In this Order, the Commission eliminated the comity-based prohibitions on call-back and the policy that allowed a foreign government or entity to make use of the enforcement mechanisms of the FCC to enforce foreign government prohibitions against U.S. carriers from offering call-signaling aboard. After careful consideration, the Commission concluded that eliminating the policy will foster competition for both small and large entities.

The Commission does not know the precise number of small entities that may be affected by this Order because it does not maintain statistical data on the size and scope of call-back providers. However, the Commission believes that most, if not all, of the call-back providers would not be considered small entities because many of these entities are wireline carriers with more than 1500 employees (see NAICS Code 517110, 13 CFR parts 121-201). Thus, very few, if any, small entities would be affected by this Order. Elimination of the call-back policy will be beneficial for both large and small entities. The Commission's Order is pro-competitive and will provide, for both large and small entities, lower prices, new and better products and services, and greater consumer choices. In addition, the Commission will maintain an on-going public file to inform both large and small carriers about the legality of call-back in foreign countries. The public file will enable all entities to note which foreign governments have notified the Commission that call-back is illegal in their countries.

Therefore, we certify that eliminating the call-back policy will not have a significant economic effect on a substantial number of small entities.

Ordering Clauses

7. Accordingly, pursuant to sections 1, 4 (j)(-j), 201(b), 214, 303(r), and 403 of the Communications Act of 1934, as amended, 47 U.S.C. 151, 154(i)(j), 201(b), 214, 303(r), and 403, this Order is hereby adopted.

8. The condition placed on international Section 214 authorizations regarding the provision of international call-back services through the use of uncompleted call-signaling, is hereby removed from all existing Section 214 authorizations.

9. The Commission's Consumer and Government Affairs Bureau's Reference Information Center, shall send a copy of this Order including the final regulatory flexibility certification, to the Chief Counsel for Advocacy of the Small Business Administration.

Federal Communications Commission.
William F. Caton,
Deputy Secretary.

[FR Doc. 03-11847 Filed 5-13-03; 8:45 am]

BILLING CODE 6712-01-P